DEPARTMENT OF COMMERCE

National Oceanic and Atmospheric Administration

50 CFR Part 660

[Docket No. 100804324-0489-01]

RIN 0648-BA01

Magnuson-Stevens Act Provisions; Fisheries Off West Coast States; Pacific Coast Groundfish Fishery; Comment Period Extension

AGENCY: National Marine Fisheries Service (NMFS), National Oceanic and Atmospheric Administration (NOAA), Commerce.

ACTION: Proposed rule; extension of a comment period.

SUMMARY: NMFS is extending the comment period for the proposed rule to implement the 2011-2012 Biennial Specifications and Management Measures; Amendment 16-5; and Amendment 23 to the Pacific Coast Groundfish Fishery Management Plan (PCGFMP). The comment period is being extended to provide additional opportunity for public comment.

DATES: Comments must be received no later than 5 p.m., local time on January 4, 2011.

ADDRESSES: You may submit comments, identified by the RIN number 0648-BA01, by any of the following methods:

• Electronic Submissions: Submit all electronic public comments via the Federal eRulemaking Portal http://www.regulations.gov.

• Fax: 206-526-6736, Attn: Sarah Williams.

• Mail: William Stelle, Administrator, Northwest Region, NMFS, 7600 Sand Point Way, NE., Seattle, WA 98115-0070, Attn: Sarah Williams.

Instructions: All comments received are a part of the public record and will generally be posted to http://www.regulations.gov without change. All personal identifying information (for example, name, address, etc.) voluntarily submitted by the commenter may be publicly accessible. Do not submit confidential business information, or otherwise sensitive or protected information.

National Marine Fisheries Service (NMFS) will accept anonymous comments (enter N/A if you wish to remain anonymous). Attachments to electronic comments will be accepted in Microsoft Word, Excel, WordPerfect, or Adobe PDF file formats only.

Information relevant to the proposed rule, which includes a draft environmental impact statement (DEIS), a regulatory impact review (RIR), and an initial regulatory flexibility analysis (IRFA) are available for public review during business hours at the office of the Pacific Fishery Management Council (Council), at 7700 NE Ambassador Place, Portland, OR 97220, phone: 503-820-2280. Copies of additional reports referred to in the proposed rule document may also be obtained from the Council.

FOR FURTHER INFORMATION CONTACT: Sarah Williams, phone: 206-526-4646, fax: 206-526-6736, or e-mail: sarah.williams@noaa.gov.

SUPPLEMENTARY INFORMATION: The proposed rule that published on November 3, 2010 (75 FR 67810), establishes the 2011-2012 harvest specifications and management measures for groundfish taken in the U.S. exclusive economic zone off the coasts of Washington, Oregon, and California consistent with the Mangunson-Stevens Fishery Conservation and Management Act and the Pacific Coast Groundfish Fishery Management Plan (PCGFMP). The proposed rule revises the harvest specifications for groundfish species and species complexes and the collection of management measures in the groundfish fishery regulations that are intended to keep the total catch within those harvest specifications. The proposed rule also includes regulations to implement Amendment 16-5 to the PCGFMP. Amendment 16-5 would create a new rebuilding plan for Petrale sole, which was declared overfished on February 9, 2010, revise the existing rebuilding plans, and revise status determination criteria and a harvest control rule for flatfish. Finally, the proposed rule is consistent with and partially implements Amendment 23 to the PCGFMP. Amendment 23 would make the PCGFMP consistent with the revised National Standard 1 Guidelines (74 FR 3178, January 16, 2009).

The proposed rule published in the Federal Register with a 30-day comment period that closed on December 3, 2010. NMFS announced at the November 2010 Council meeting that the 2011-2012 biennial specifications and management measures originally schedule to be in place January 1, 2011, would be delayed to allow for the preparation of the analytical documents needed to support final action. Because of this delay many of the specifications in the proposed rule will not be effective for the beginning of 2011 and instead specifications from 2010 will be effective for the beginning of 2011, until the final rule is in place. Because of the extra time now available due to the delay in final action, NMFS is extending the comment period on the proposed rule through January 4, 2011 to allow the public and the Council additional time to comment.

Dated: November 30, 2010.
Samuel D. Rauch III,
Deputy Assistant Administrator for Regulatory Programs, National Marine Fisheries Service.

[FR Doc. 2010-30403 Filed 12-2-10; 8:45 am]

BILLING CODE 3510-22-P